DEPARTMENT OF TRANSPORTATION

Federal Aviation Administration

14 CFR Part 39

[Docket No. FAA-2015-4207; Directorate Identifier 2015-NM-123-AD; Amendment 39-18304; AD 2015-21-11]

RIN 2120-AA64

Airworthiness Directives; The Boeing Company Airplanes

AGENCY: Federal Aviation Administration (FAA), DOT.

ACTION: Final rule; request for comments.

SUMMARY: We are superseding Airworthiness Directive (AD) 2015-16-01 for certain The Boeing Company Model airplanes. AD 2015-16-01 required incorporating design changes to improve the reliability of the cabin altitude warning system by installing a redundant cabin altitude pressure switch, replacing the aural warning module (AWM) with a new or reworked AWM, and changing certain wire bundles or connecting certain previously capped and stowed wires as necessary. For certain airplanes, AD 2015-16-01 also required prior or concurrent incorporation of related design changes by modifying the instrument panels, installing light assemblies, modifying the wire bundles, and installing a new circuit breaker, as necessary. This AD retains all actions required by AD 2015-16-01. This AD was prompted by the discovery of a typographical error in AD 2015-16-01 that referred to a nonexistent paragraph. We are issuing this AD to prevent the loss of cabin altitude warning, which could delay flightcrew recognition of a lack of cabin pressurization, and could result in incapacitation of the flightcrew due to hypoxia (a lack of oxygen in the body), and consequent loss of control of the airplane.

DATES: This AD is effective November 12, 2015.

The Director of the Federal Register approved the incorporation by reference of certain publications listed in this AD as of September 15, 2015 (80 FR 48013, August 11, 2015).

The Director of the Federal Register approved the incorporation by reference of certain other publications listed in this AD as of November 7, 2012 (77 FR 60296, October 3, 2012).

We must receive any comments on this AD by December 14, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-4207.

Examining the AD Docket

You may examine the AD docket on the Internet at http://www.regulations.gov by searching for and locating Docket No. FAA-2015-4207; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Francis Smith, Aerospace Engineer, Cabin Safety and Environmental Systems Branch, ANM-150S, FAA, Seattle Aircraft Certification Office, 1601 Lind Avenue SW., Renton, WA 98057-3356; telephone: 425-917-6596; fax: 425-917-6590; email: Francis.Smith@faa.gov.

SUPPLEMENTARY INFORMATION:

Discussion

On July 22, 2015, we issued AD 2015-16-01, Amendment 39-18226 (80 FR 48013, August 11, 2015), for certain The Boeing Company Model 737 airplanes. AD 2015-16-01 required incorporating design changes to improve the reliability of the cabin altitude warning system by installing a redundant cabin altitude pressure switch, replacing the AWM with a new or reworked AWM, and changing certain wire bundles or connecting certain previously capped and stowed wires as necessary. For certain airplanes, AD 2015-16-01 also required prior or concurrent incorporation of related design changes by modifying the instrument panels, installing light assemblies, modifying the wire bundles, and installing a new circuit breaker, as necessary. AD 2015-16-01 resulted from the report of a flightcrew not receiving an aural warning during a lack of cabin pressurization event. We issued AD 2015-16-01 to prevent the loss of cabin altitude warning, which could delay flightcrew recognition of a lack of cabin pressurization, and could result in incapacitation of the flightcrew due to hypoxia (a lack of oxygen in the body), and consequent loss of control of the airplane.

Actions Since AD 2015-16-01 Was Issued

Since we issued AD 2015-16-01, Amendment 39-18226 (80 FR 48013, August 11, 2015), we have discovered a typographical error in paragraph (j)(1)(iii) of AD 2015-16-01. That error referred to paragraph (j)(4), which is a paragraph that does not exist in AD 2015-16-01. The correct reference is paragraph (j)(1)(iv) of AD 2015-16-01. We have changed paragraph (j)(1)(iii) of this AD accordingly.

We have also revised paragraph (g)(2) of this AD to remove a limitation to use only Boeing Special Attention Service Bulletin 737-21-1165, Revision 3, dated July 16, 2014, after the effective date of AD 2015-16-01, Amendment 39-18226 (80 FR 48013, August 11, 2015).

Related Service Information Under 1 CFR Part 51

We reviewed the following service information:

• Boeing Alert Service Bulletin 737-31A1325, Revision 2, dated June 5, 2014.

• Boeing Alert Service Bulletin 737-31A1332, Revision 4, dated October 31, 2013.

• Boeing Special Attention Service Bulletin 737-21-1164, Revision 2, dated August 23, 2013.

• Boeing Special Attention Service Bulletin 737-21-1165, Revision 3, dated July 16, 2014.

The service information describes procedures for incorporating design changes to improve the reliability of the cabin altitude warning system by installing a redundant cabin altitude pressure switch, replacing the AWM with a new or reworked AWM, and changing certain wire bundles or connecting certain previously capped and stowed wires as necessary. This service information is reasonably available because the interested parties have access to it through their normal course of business or by the means identified in the ADDRESSES section of this AD.

FAA's Determination

We are issuing this AD because we evaluated all the relevant information and determined the unsafe condition described previously is likely to exist or develop in other products of the same type design.

AD Requirements

This AD requires the same actions as those required in AD 2015-16-01, Amendment 39-18226 (80 FR 48013, August 11, 2015).

FAA's Justification and Determination of the Effective Date

We are superseding AD 2015-16-01, Amendment 39-18226 (80 FR 48013, August 11, 2015), to correct a typographical error in paragraph (j)(1)(iii) of AD 2015-16-01, which inadvertently referenced a non-existent paragraph, and to revise paragraph (g)(2) of this AD to remove a limitation to use only Boeing Special Attention Service Bulletin 737-21-1165, Revision 3, dated July 16, 2014, after the effective date of AD 2015-16-01. We have made no other changes to the requirements published in AD 2015-16-01. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2015-4207 and Directorate Identifier 2015-NM-123-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 1,618 airplanes of U.S. registry. The new requirements of this AD add no additional economic burden. The current costs for this AD are repeated for the convenience of affected operators, as follows.

We estimate the following costs to comply with this AD:

Estimated Costs
Action | Labor cost | Parts cost | Cost per product | Cost on U.S. operators
Install a redundant cabin altitude pressure switch, replace the AWM with a new or reworked AWM, change certain wire bundles or connect certain capped and stowed wires [retained actions from AD 2015-16-01, Amendment 39-18226 (80 FR 48013, August 11, 2015), for 1,618 airplanes] | Up to 62 work-hours × $85 per hour = up to $5,270 | $33,576 | Up to $38,846 | Up to $62,852,828.
Modify the instrument panels, install light assemblies, modify the wire bundles, and install a new circuit breaker (concurrent requirements) [retained actions from AD 2015-16-01, Amendment 39-18226 (80 FR 48013, August 11, 2015), for 1,596 airplanes] | Up to 92 work-hours × $85 per hour = up to $7,820 | 5,292 | Up to $13,112 | Up to $20,926,752.
Modify the instrument panels, install light assemblies, modify the wire bundles, and install a new circuit breaker (concurrent requirements) [retained actions from AD 2015-16-01, Amendment 39-18226 (80 FR 48013, August 11, 2015), for 22 airplanes] | Up to 92 work-hours × $85 per hour = up to $7,820 | 5,292 | Up to $13,112 | Up to $288,464.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-16-01, Amendment 39-18226 (80 FR 48013, August 11, 2015) and adding the following new AD:

2015-21-11 The Boeing Company: Amendment 39-18304; Docket No. FAA-2015-4207; Directorate Identifier 2015-NM-123-AD.

(a) Effective Date

This AD is effective November 12, 2015.

(b) Affected ADs

This AD replaces AD 2015-16-01, Amendment 39-18226 (80 FR 48013, August 11, 2015).

(c) Applicability

This AD applies to The Boeing Company airplanes, certificated in any category, as identified in paragraphs (c)(1) and (c)(2) of this AD.

(1) Model 737-100, -200, -200C, -300,-400, and -500 series airplanes, as identified in Boeing Special Attention Service Bulletin 737-21-1164, Revision 2, dated August 23, 2013.

(2) Model 737-600, -700, -700C, -800,-900, and -900ER series airplanes, as identified in Boeing Special Attention Service Bulletin 737-21-1165, Revision 3, dated July 16, 2014.

(d) Subject

Air Transport Association (ATA) of America Code 21, Air Conditioning.

(e) Unsafe Condition

This AD was prompted by the report of a flightcrew not receiving an aural warning during a lack of cabin pressurization event. We are issuing this AD to prevent the loss of cabin altitude warning, which could delay flightcrew recognition of a lack of cabin pressurization, and could result in incapacitation of the flightcrew due to hypoxia (a lack of oxygen in the body), and consequent loss of control of the airplane.

(f) Compliance

Comply with this AD within the compliance times specified, unless already done.

(g) Retained Installation, With Removal of Limitation To Use Certain Service Information

This paragraph restates the actions required by paragraph (g) of AD 2015-16-01, Amendment 39-18226 (80 FR 48013, August 11, 2015), with removal of the limitation to use certain service information from paragraph (g)(2) of this AD. Within 72 months after November 7, 2012 (the effective date of AD 2012-19-11, Amendment 39-17206 (77 FR 60296, October 3, 2012)), install a redundant cabin altitude pressure switch, replace the aural warning module (AWM) with a new or reworked AWM, and change certain wire bundles or connect certain capped and stowed wires, as applicable, in accordance with the Accomplishment Instructions of the applicable service information in paragraphs (g)(1) and (g)(2) of this AD; except as provided by paragraph (k)(1) of this AD.

(1) Boeing Special Attention Service Bulletin 737-21-1164, Revision 1, dated May 17, 2012; or Boeing Special Attention Service Bulletin 737-21-1164, Revision 2, dated August 23, 2013 (for Model 737-100, -200, -200C, -300, -400, and -500 series airplanes). As of September 15, 2015 (the effective date of AD 2015-16-01, Amendment 39-18226 (80 FR 48013, August 11, 2015)), use Boeing Special Attention Service Bulletin 737-21-1164, Revision 2, dated August 23, 2013, for the actions specified in paragraph (g) of this AD.

(2) Boeing Special Attention Service Bulletin 737-21-1165, Revision 1, dated July 16, 2010, as revised by Boeing Special Attention Service Bulletin 737-21-1165, Revision 2, dated April 30, 2012; or Boeing Special Attention Service Bulletin 737-21-1165, Revision 3, dated July 16, 2014 (for Model 737-600, -700, -700C, -800, -900, and -900ER series airplanes).

(h) Retained Concurrent Actions, With No Changes

This paragraph restates the concurrent actions required by paragraph (h) of AD 2015-16-01, Amendment 39-18226 (80 FR 48013, August 11, 2015), with no changes. For airplanes identified in Boeing Alert Service Bulletin 737-31A1325, dated January 11, 2010 (for Model 737-100, -200, -200C, -300, -400, and -500 series airplanes); and Boeing Alert Service Bulletin 737-31A1332, Revision 3, dated March 28, 2012 (for Model 737-600, -700, -700C, -800, -900, and -900ER series airplanes); except as provided by paragraph (i) of this AD: Before or concurrently with accomplishment of the actions specified in paragraph (g) of this AD, as applicable, modify the instrument panels, install light assemblies, modify the wire bundles, and install a new circuit breaker, in accordance with the Accomplishment Instructions of the applicable service information in paragraphs (h)(1) and (h)(2) of this AD; except as provided by paragraph (k)(2) of this AD.

(1) The service information for Model 737-100, -200, -200C, -300, -400, and -500 series airplanes as identified in paragraphs (h)(1)(i), (h)(1)(ii), and (h)(1)(iii), of this AD. As of September 15, 2015 (the effective date of AD 2015-16-01, Amendment 39-18226 (80 FR 48013, August 11, 2015)), use Boeing Alert Service Bulletin 737-31A1325, Revision 2, dated June 5, 2014 (for Model 737-100, -200, -200C, -300, -400, and -500 series airplanes), for the actions specified in paragraph (h) of this AD.

(i) Boeing Alert Service Bulletin 737-31A1325, dated January 11, 2010.

(ii) Boeing Alert Service Bulletin 737-31A1325, Revision 1, dated July 5, 2012.

(iii) Boeing Alert Service Bulletin 737-31A1325, Revision 2, dated June 5, 2014.

(2) Boeing Alert Service Bulletin 737-31A1332, Revision 3, dated March 28, 2012; or Boeing Alert Service Bulletin 737-31A1332, Revision 4, dated October 31, 2013 (for Model 737-600, -700, -700C, -800, -900, and -900ER series airplanes). As of September 15, 2015 (the effective date of AD 2015-16-01, Amendment 39-18226 (80 FR 48013, August 11, 2015)), use Boeing Alert Service Bulletin 737-31A1332, Revision 4, dated October 31, 2013 (for Model 737-600, -700, -700C, -800, -900, and -900ER series airplanes), for the actions specified in paragraph (h) of this AD.

(i) Retained Additional Concurrent Requirement, With No Changes

This paragraph restates the concurrent actions required by paragraph (i) of AD 2015-16-01, Amendment 39-18226 (80 FR 48013, August 11, 2015), with no changes. For airplanes having variable numbers YA001 through YA008 inclusive, YA251, YA501 through YA508 inclusive, and YC321 through YC325 inclusive: Before or concurrently with accomplishment of the actions specified in paragraph (g) of this AD, or within 18 months after September 15, 2015 (the effective date of AD 2015-16-01, Amendment 39-18226 (80 FR 48013, August 11, 2015)), whichever occurs later, modify the instrument panels, install light assemblies, modify the wire bundles, and install a new circuit breaker, in accordance with the Accomplishment Instructions of Boeing Alert Service Bulletin 737-31A1332, Revision 4, dated October 31, 2013.

(j) Retained Credit for Previous Actions, With Corrected Paragraph Reference

(1) This paragraph restates the credit for previous actions stated in paragraph (i) of AD 2015-16-01, Amendment 39-18226 (80 FR 48013, August 11, 2015), with corrected paragraph reference.

(i) This paragraph provides credit for the actions required by paragraph (g) of AD 2015-16-01, Amendment 39-18226 (80 FR 48013, August 11, 2015), if those actions were performed before November 7, 2012 (the effective date of AD 2012-19-11, Amendment 39-17206 (77 FR 60296, October 3, 2012)), using Boeing Special Attention Service Bulletin 737-21-1165, Revision 1, dated July 16, 2010, which was incorporated by reference in AD 2012-19-11.

(ii) For airplanes identified in Boeing Alert Service Bulletin 737-31A1332, Revision 1, dated June 24, 2010; except airplanes having variable numbers YA001 through YA019 inclusive, YA201 through YA203 inclusive, YA231 through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (h) of this AD, if those actions were performed before September 15, 2015 (the effective date of AD 2015-16-01, Amendment 39-18226 (80 FR 48013, August 11, 2015)), using Boeing Alert Service Bulletin 737-31A1332, Revision 1, dated June 24, 2010, which was incorporated by reference in AD 2012-19-11, Amendment 39-17206 (77 FR 60296, October 3, 2012).

(iii) For airplanes identified in Boeing Alert Service Bulletin 737-31A1332, Revision 2, dated August 18, 2011; except airplanes identified in paragraph (j)(1)(iv) of this AD and airplanes having variable numbers YA001 through YA019 inclusive, YA201 through YA203 inclusive, YA231through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (h) of this AD, if those actions were performed before September 15, 2015 (the effective date of AD 2015-16-01, Amendment 39-18226 (80 FR 48013, August 11, 2015)), using Boeing Alert Service Bulletin 737-31A1332, Revision 2, dated August 18, 2011, which was incorporated by reference in AD 2012-19-11, Amendment 39-17206 (77 FR 60296, October 3, 2012).

(iv) For Group 21, Configuration 2 airplanes identified in Boeing Alert Service Bulletin 737-31A1332, Revision 3, dated March 28, 2012: This paragraph provides credit for the actions required by paragraph (h) of this AD, if those actions were performed before September 15, 2015 (the effective date of AD 2015-16-01, Amendment 39-18226 (80 FR 48013, August 11, 2015)), using Boeing Alert Service Bulletin 737-31A1332, Revision 2, dated August 18, 2011, which was incorporated by reference in AD 2012-19-11, Amendment 39-17206 (77 FR 60296, October 3, 2012); and provided that the actions specified in Boeing Service Bulletin 737-21-1171, dated February 12, 2009 (which is not incorporated by reference in this AD), were accomplished prior to or concurrently with the actions specified in Boeing Alert Service Bulletin 737-31A1332, Revision 2, dated August 18, 2011.

(2) This paragraph provides credit for the actions specified in paragraph (h) of this AD, if those actions were performed before September 15, 2015 (the effective date of AD 2015-16-01, Amendment 39-18226 (80 FR 48013, August 11, 2015)), using the service information identified in paragraph (j)(2)(i) or (j)(2)(ii) of this AD.

(i) Boeing Alert Service Bulletin 737-31A1325, dated January 11, 2010, which was incorporated by reference in AD 2012-19-11, Amendment 39-17206 (77 FR 60296, October 3, 2012).

(ii) Boeing Alert Service Bulletin 737-31A1325, Revision 1, dated July 5, 2012, which is not incorporated by reference in this AD.

(k) Retained Exceptions to the Service Information, With No Changes

This paragraph restates the actions required by paragraph (k) of AD 2015-16-01, Amendment 39-18226 (80 FR 48013, August 11, 2015), with no changes.

(1) Where Boeing Special Attention Service Bulletin 737-21-1164, Revision 2, dated August 23, 2013, specifies to contact Boeing for instructions: Before further flight, repair using a method approved in accordance with the procedures specified in paragraph (l) of this AD.

(2) Where Boeing Alert Service Bulletin 737-31A1325, Revision 2, dated June 5, 2014, specifies to contact Boeing for instructions: Before further flight, repair using a method approved in accordance with the procedures specified in paragraph (l) of this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved for AD 2012-19-11, Amendment 39-17206 (77 FR 60296, October 3, 2012), are approved as AMOCs for the corresponding provisions of this AD.

(m) Related Information

(1) For more information about this AD, contact Francis Smith, Aerospace Engineer, Cabin Safety and Environmental Systems Branch, ANM-150S, FAA, Seattle Aircraft Certification Office, 1601 Lind Avenue SW., Renton, WA 98057-3356; phone: 425-917-6596; fax: 425-917-6590; email: Francis.Smith@faa.gov.

(2) Service information identified in this AD that is not incorporated by reference is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 15, 2015 (80 FR 48013, August 11, 2015).

(i) Boeing Alert Service Bulletin 737-31A1325, Revision 2, dated June 5, 2014.

(ii) Boeing Alert Service Bulletin 737-31A1332, Revision 4, dated October 31, 2013.

(iii) Boeing Special Attention Service Bulletin 737-21-1164, Revision 2, dated August 23, 2013.

(iv) Boeing Special Attention Service Bulletin 737-21-1165, Revision 3, dated July 16, 2014.

(4) The following service information was approved for IBR on November 7, 2012 (77 FR 60296, October 3, 2012).

(i) Boeing Alert Service Bulletin 737-31A1325, dated January 11, 2010.

(ii) Boeing Alert Service Bulletin 737-31A1332, Revision 1, dated June 24, 2010.

(iii) Boeing Alert Service Bulletin 737-31A1332, Revision 2, dated August 18, 2011.

(iv) Boeing Alert Service Bulletin 737-31A1332, Revision 3, dated March 28, 2012.

(v) Boeing Special Attention Service Bulletin 737-21-1164, Revision 1, dated May 17, 2012.

(vi) Boeing Special Attention Service Bulletin 737-21-1165, Revision 1, dated July 16, 2010.

(vii) Boeing Special Attention Service Bulletin 737-21-1165, Revision 2, dated April 30, 2012.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 16, 2015.
Jeffrey E. Duven,
Manager,Transport Airplane Directorate, Aircraft Certification Service.

[FR Doc. 2015-27190 Filed 10-27-15; 8:45 am]

BILLING CODE 4910-13-P